DEPARTMENT OF HOMELAND SECURITY

Federal Emergency Management Agency

[Docket No. FEMA-2013-0002; Internal Agency Docket No. FEMA-B-1247]

Proposed Flood Hazard Determinations

AGENCY: Federal Emergency Management Agency; DHS.

ACTION: Notice; correction.

SUMMARY: On April 11, 2012, FEMA published in the Federal Register a proposed flood hazard determination notice that contained an erroneous table. This notice provides corrections to that table, to be used in lieu of the information published at 77 FR 21792. The table provided here represents the proposed flood hazard determinations and communities affected for Gregg County, Texas, and Incorporated Areas.

DATES: Comments are to be submitted on or before October 28, 2013.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at www.msc.fema.gov for comparison.

You may submit comments, identified by Docket No. FEMA-B-1247, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov; or visit the FEMA Map Information eXchange (FMIX) online at www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://www.fema.gov/pdf/media/factsheets/2010/srp_fs.pdf.

In the proposed flood hazard determination notice published at 77 FR 21792 in the April 11, 2012, issue of the Federal Register, FEMA published a table titled “Gregg County, Texas, and Incorporated Areas.” This table contained inaccurate information as to the watershed or communities affected by the proposed flood hazard determinations, or the associated community map repository or web addresses also featured in the table. In this document, FEMA is publishing a table containing the accurate information, to address these prior errors. The information provided below should be used in lieu of that previously published.

Correction

In Proposed rule FR Doc. 2012-8600, beginning on page 21791 in the issue of April 11, 2012, make the following correction. On page 21792, correct the Gregg County, Texas table as follows:

Community | Community map repository address
Gregg County, Texas, and Incorporated Areas
Maps Available for Inspection Online at: http://riskmap6.com/Community.aspx?cid=341&sid=5.
City of Clarksville City | City Hall, 631 U.S. Highway 80 and White Street, Clarksville City, TX 75693.
City of Easton | City Hall, 185 Kennedy Boulevard, Easton, TX 75663.
City of Gladewater | City Hall, 519 East Broadway, Gladewater, TX 75647.
City of Kilgore | City Hall, 815 North Kilgore Street, Kilgore, TX 75662.
City of Lakeport | Lakeport City Hall, 207 Milam Road, Longview, TX 75603.
City of Longview | Development Services and Engineering Department, 410 South High Street, Longview, TX 75601.
City of Warren City | Warren City City Hall, 3004 George Richey Road, Gladewater, TX 75647.
City of White Oak | City Hall, 906 South White Oak Road, White Oak, TX 75693.
Unincorporated Areas of Gregg County | Gregg County Courthouse, 101 East Methvin, Longview, TX 75601.

(Catalog of Federal Domestic Assistance No. 97.022, “Flood Insurance.”)

Dated: June 28, 2013.
Roy E. Wright,
Deputy Associate Administrator for Mitigation, Department of Homeland Security, Federal Emergency Management Agency.

[FR Doc. 2013-18266 Filed 7-29-13; 8:45 am]

BILLING CODE 9110-12-P